DEPARTMENT OF COMMERCE

National Oceanic and Atmospheric Administration

[I.D. 031006B]

Endangered Species; File No. 1563

AGENCY: National Marine Fisheries Service (NMFS), National Oceanic and Atmospheric Administration (NOAA), Commerce.

ACTION: Notice; receipt of application.

SUMMARY: Notice is hereby given that North Carolina Division of Marine Fisheries (NCDMF; Mr. Blake Price, Principal Investigator), P.O. Box 769, Morehead City, North Carolina 28557, has applied in due form for a permit to take threatened and endangered sea turtles for purposes of scientific research.

DATES: Written or telefaxed comments must be received on or before April 17, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, Saint Petersburg, Florida 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1563.

FOR FURTHER INFORMATION CONTACT: Carrie Hubard or Patrick Opay, (301)713-2289.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to test two types of large mesh gillnets to ascertain which type of net will reduce sea turtle interactions while maintaining targeted catch rates for southern flounder (Paralichthys lethostigma). Both nets would be constructed of 0.52 mm diameter monofilament with 6-inch (15.2 cm) mesh webbing and would be 1,200 yards (1,097 m) long. The control net would be 25 meshes deep while the low profile net would be twelve meshes deep. Control nets would have additional floatation every six feet (1.8 m) and tie downs every 30 feet (9.1 m); the experimental net would have neither. NCDMF plans to conduct 150 paired net deployments (one of each type of net). To follow fishing protocols, nets would be set at dusk and retrieved in the early morning. Captured sea turtles would be examined for any possible injuries and held for approximately two hours to ensure they are healthy before being transported away from the fishing area and released. Turtles would be identified to species, measured, photographed, and flipper and PIT tagged. Any comatose or debilitated turtles would be transported to a rehabilitation center. During the life of the permit, the applicant requests authorization to capture 23 Kemp's ridley (Lepidochelys kempii), 23 loggerhead (Caretta caretta), 22 green (Chelonia mydas), 2 hawksbill (Eretmochelys imbricata), and 2 leatherback (Dermochelys coriacea) sea turtles. Of the captured turtles, 11 Kemp's, 11 loggerhead, 11 green, 1 hawksbill, and 1 leatherback may be mortalities. Research would be conducted in Pamlico Sound, North Carolina and the permit would expire in December 2007.

Dated: March 10, 2006.
Stephen L. Leathery,
Chief, Permits, Conservation and Education Division, Office of Protected Resources, National Marine Fisheries Service.

[FR Doc. E6-3945 Filed 3-16-06; 8:45 am]

BILLING CODE 3510-22-S